DEPARTMENT OF ENERGY

Federal Energy Regulatory Commission

[Docket No. PR03-5-001]

Washington Gas Light Company; Notice of Revised Firm Interstate Transportation Service Operating Statement

June 19, 2003.

Take notice that on May 30, 2003, Washington Gas Light Company (WGLC) filed a Revised Firm Interstate Transportation Service Operating Statement. Washington Gas makes this filing in accordance with the Commission's May 1, 2003, Order approving the Company's December 9, 2002, Petition for Rate Approval. The Company's approved Petition for Rate Approval was conditioned on the Company filing this revised Firm Interstate Transportation Service Operating Statement.

Any person desiring to protest said filing should file a protest with the Federal Energy Regulatory Commission, 888 First Street, NE., Washington, DC 20426, in accordance with § 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 7, 2003.

Magalie R. Salas,
Secretary.

[FR Doc. 03-16207 Filed 6-25-03; 8:45 am]

BILLING CODE 6717-01-P